DEPARTMENT OF LABOR

Employment and Training Administration

[TA-W-38,791 and NAFTA-04630]

Sierra Pacific Industries Loyalton, CA; Notice of Negative Determination Regarding Application for Reconsideration

By application of May 31, 2001, the United Brotherhood of Carpenters & Joiners of America, Western Council of Industrial Workers, Local Union 3074 requested administrative reconsideration of the Department's negative determination regarding eligibility for workers and former workers of the subject firm to apply for Trade Adjustment Assistance (TAA) under petition TA-W-38,791 and North American Free Trade Agreement-Transitional Adjustment Assistance (NAFTA-TAA) under petition NAFTA-4630. The denial notices applicable to workers of Sierra Pacific Industries, Loyalton, California, were signed on April 24, 2001 (TA-W-38,791), and April 30, 2001 (NAFTA-4630) and published in the Federal Register on May 9, 2001 (66 FR 23733) and May 18, 2001 (66 FR 27691), respectively.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Sierra Pacific Industries, Loyalton, California, producing softwood dimensional lumber, was denied because the “contributed importantly” group eligibility requirement of section 222(3) of the Trade Act of 1974, as amended, was not met. The “contributed importantly” test is generally demonstrated through a survey of the workers' firm's customers. The survey revealed no increase customer imports of softwood dimensional lumber during the relevant period.

The NAFTA-TAA petition for the same worker group was denied because criteria (3) and (4) of the group eligibility requirements in paragraph (a)(1) of Section 250 of the Trade Act, as amended, were not met. A survey was conducted and revealed that customers did not increase their imports of softwood dimensional lumber from Canada or Mexico during the relevant period. The subject firm did not import softwood dimensional lumber, nor was production of softwood dimensional lumber shifted from the workers' firm to Mexico or Canada.

The petitioner alleges that the company in their closure notice indicated that the subject facility has been impacted by imports of softwood lumber from Canada. The petitioner supports this statement by indicating that the United States International Trade Commission, (USITC Publication No. 3426, May 2001) in the conclusion statement “for the foregoing reasons, we determine there is a reasonable indication that an industry in the United States is threatened with material injury by reason of imports of softwood lumber from Canada are allegedly subsidized by the Government of Canada and sold in the United States at less than fair value.” The USITC preliminary decision was established after the original TAA and NAFTA-TAA investigations were completed. The Department does examine current USITC decisions during TAA and NAFTA-TAA investigations for import trends as appropriate. An examination of the USITC investigation revealed that Canadian and aggregate U.S. imports of softwood lumber remained relatively stable in the year 2000 over the corresponding 1999 period. Any increases in imports are relatively small and not a major contributing factor to the “contributed importantly” criterion of worker group's eligibility requirements of section 222 of the Trade Act.”

The USITC softwood lumber imports statistics provided in the USITC investigation are basket categories and not specific to softwood dimensional lumber and thus not specific to the products produced at the subject firm.

The USITC preliminary decision focuses on the fact that there is reasonable indication that the softwood lumber industry is threatened with material injury by reason of subject imports of softwood lumber from Canada that are allegedly subsidized and sold at less than fair value. A foreign company subsidizing and selling at less than fair value is also not a relevant factor relating to the “contributed importantly” criterion of worker group's eligibility requirements of section 222 of the Trade Act.

The petitioner further alleges that high log prices contributed to Sierra Pacific Industries' decision to close their Loyalton facility.

The price of logs is not relevant to the TAA or NAFTA-TAA investigations that were filed on behalf of workers producing softwood dimensional lumber.

Conclusion

After review of the application and investigative findings, I conclude that there has been no error or misinterpretation of the law or of the facts which would justify reconsideration of the Department of Labor's prior decisions. Accordingly, the application is denied.

Signed at Washington, DC, this 14th day of January, 2002.
Edward A. Tomchick,
Director, Division of Trade Adjustment Assistant.

[FR Doc. 02-2339 Filed 1-30-02; 8:45 am]

BILLING CODE 4510-30-M